FEDERAL RESERVE SYSTEM

[Docket No. R-1149]

Rules of Organization

AGENCY: Board of Governors of the Federal Reserve System.

ACTION: Amendment to rules of organization.

SUMMARY: The Board of Governors has revised its definition of a quorum of the Board and incorporated the new quorum provision into the Board's Rules of Organization. The amendment is designed to enhance the Board's ability to perform its functions in the event of a national emergency, and would not alter the number of Board members required to constitute a quorum in normal operating environments.

DATES: The amendment to the Rules of Organization became effective on April 29, 2003.

FOR FURTHER INFORMATION CONTACT: Kieran J. Fallon, Senior Counsel (202-452-5270), or Audrey G. Decker, Attorney (202-452-3099), Legal Division, Board of Governors of the Federal Reserve System, 20th Street and Constitution Avenue, N.W., Washington, D.C. 20551. Users of Telecommunication Device for Deaf (TDD) only, call 202-263-4869.

SUPPLEMENTARY INFORMATION: The Board of Governors of the Federal Reserve System (Board) consists of seven members appointed by the President, by and with the advice and consent of the Senate, as provided in the Federal Reserve Act (Act).¹ The Act does not define a quorum of the Board, and authorizes the Board to make all rules and regulations necessary to enable the Board effectively to perform its duties and functions.² Since 1913, the Board itself has defined a quorum of the Board to be a majority (four members) of its authorized strength of seven members.

¹ See 12 U.S.C. 241.

² See 12 U.S.C. 248(i)

The Board's current practice could prevent the Board from taking action if an act of war, terrorist attack or other catastrophic event reduced the Board's membership to fewer than four members. The Board's current practice also could prevent a four-member Board from taking prompt action during an emergency if one member were unable to establish contact with the Board. In light of these possibilities, the Board has amended its definition of a quorum to provide that a majority of the members in office constitutes a quorum of the Board, unless there are five members in office, in which case four members will constitute a quorum of the Board.

The Board believes that the revised definition of a quorum will enhance the Board's ability to fulfill its important statutory responsibilities in an emergency. At the same time, the revised definition would not alter the number of Board members required to constitute a quorum or the functioning of the Board's committee structure in normal operating environments (that is, when five or more members are in office). In this regard, the revised definition would continue to require that four members of the Board participate in an action for a quorum to exist whenever the Board has five or more members in office.³

³ Since the current structure of the Board was established in 1936, the Board has not had fewer than five members in office at any one time.

The Board has incorporated its new definition of a quorum into the Board's Rules of Organization. The Board's Rules of Organization are uncodified regulations for use within the Federal Reserve System, issued pursuant to 5 U.S.C. 552. The Rules of Organization were published in the Federal Register on July 19, 2001 (66 FR 37687). The amendment relates solely to the internal procedure of the Board, and, accordingly, the public notice, public comment and delayed effective date provisions of the Administrative Procedure Act do not apply. See 5 U.S.C. 553(b) and (d). Because public notice and comment is not required, the Regulatory Flexibility Act (5 U.S.C. 601 et seq.) also does not apply to this action.

For the reasons discussed above, the Board of Governors of the Federal Reserve System has amended section 2 of its Rules of Organization by redesignating paragraphs (b) and (c) as paragraphs (c) and (d), respectively, and adding the following new paragraph (b):

Section 2-Composition, Location, and Public Information

* * * * *

(b) Quorum. A majority of the members in office constitutes a quorum of the Board for purposes of transacting business except that, if there are five members in office, then four members constitute a quorum.

* * * * *

By order of the Board of Governors of the Federal Reserve System, May 2, 2003.
Jennifer J. Johnson,
Secretary of the Board.

[FR Doc. 03-11427 Filed 5-7-03; 8:45 am]

BILLING CODE 6210-01-S